DEPARTMENT OF COMMERCE

National Oceanic and Atmospheric Administration

50 CFR Part 679

[Docket No. 230224-0053; RTID 0648-XD598]

Fisheries of the Exclusive Economic Zone Off Alaska; Inseason Adjustment to the 2024 Gulf of Alaska Pollock and Pacific Cod Total Allowable Catch Amounts

AGENCY: National Marine Fisheries Service (NMFS), National Oceanic and Atmospheric Administration (NOAA), Commerce.

ACTION: Temporary rule; inseason adjustment; request for comments.

SUMMARY: NMFS is adjusting the 2024 total allowable catch (TAC) amounts for the Gulf of Alaska (GOA) pollock and Pacific cod fisheries. This action is necessary because NMFS has determined these TACs are incorrectly specified, and will ensure the GOA pollock and Pacific cod TACs are the appropriate amount based on the best scientific information available for pollock and Pacific cod in the GOA. This action is consistent with the goals and objectives of the Fishery Management Plan (FMP) for Groundfish of the Gulf of Alaska.

DATES: Effective 0001 hours, Alaska local time (A.l.t.), January 1, 2024, until the effective date of the final 2024 and 2025 harvest specifications for GOA groundfish, unless otherwise modified or superseded through publication of a notification in the Federal Register.

Comments must be received at the following address no later than 4:30 p.m., A.l.t., January 10, 2024.

ADDRESSES: You may submit comments on this document, identified by docket number NOAA-NMFS-2022-0094, by any of the following methods:

Electronic Submission: Submit all electronic public comments via the Federal eRulemaking Portal. Go to https://www.regulations.gov and enter NOAA-NMFS-2022-0094 in the Search box. Click on the “Comment” icon, complete the required fields, and enter or attach your comments.

Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Adam Zaleski, 907-586-7228.

SUPPLEMENTARY INFORMATION: NMFS manages the groundfish fishery in the GOA exclusive economic zone according to the FMP for Groundfish of the Gulf of Alaska prepared by the North Pacific Fishery Management Council (Council) under authority of the Magnuson-Stevens Fishery Conservation and Management Act. Regulations governing fishing by U.S. vessels in accordance with the FMP appear at subpart H of 50 CFR part 600 and 50 CFR part 679.

The final 2023 and 2024 harvest specifications for groundfish in the GOA (88 FR 13238, March 2, 2023) set the 2024 pollock TAC at 168,416 metric tons (mt) in the GOA. In December 2023, the Council recommended a 2024 pollock TAC of 195,720 mt for the GOA, which is greater than the 168,416 mt established by the final 2023 and 2024 harvest specifications for groundfish in the GOA. The Council's recommended 2024 TAC, and the area and seasonal apportionments, is based on the Stock Assessment and Fishery Evaluation report (SAFE), dated November 2023.

The final 2023 and 2024 harvest specifications for groundfish in the GOA (88 FR 13238, March 2, 2023) set the 2024 Pacific cod TAC at 16,668 mt in the GOA. In December 2023, the Council recommended a 2024 Pacific cod TAC of 23,766 mt for the GOA, which is greater than the 16,668 mt established by the final 2023 and 2024 harvest specifications for groundfish in the GOA. The Council's recommended 2024 TAC, and the area and seasonal apportionments, is based on the SAFE, dated November 2023.

Steller sea lions occur in the same location as the pollock and Pacific cod fisheries and are listed as endangered under the Endangered Species Act. Pollock and Pacific cod are principal prey species for Steller sea lions in the GOA. The seasonal apportionment of pollock and Pacific cod harvests are necessary to ensure the groundfish fisheries are not likely to cause jeopardy of extinction or adverse modification of critical habitat for Steller sea lions. The regulations at § 679.20(a)(5)(iv) specify how the pollock TAC will be apportioned and the regulations at § 679.20(a)(6)(ii) and (a)(12)(i) specify how the Pacific cod TAC will be apportioned.

In accordance with § 679.25(a)(1)(iii), (a)(2)(i)(B), and (a)(2)(iv) the Administrator, Alaska Region, NMFS (Regional Administrator), has determined that, based on the best scientific information available for this fishery, the current GOA pollock and Pacific cod TACs are incorrectly specified. Consequently, pursuant to § 679.25(a)(1)(iii), the Regional Administrator is adjusting the 2024 GOA pollock TAC to 195,720 mt and the 2024 Pacific cod TAC to 23,766 mt. Therefore, tables 4 and 6 of the final 2023 and 2024 harvest specifications for groundfish in the GOA (88 FR 13238, March 2, 2023) are revised consistent with this adjustment.

Pursuant to § 679.20(a)(5)(iv), table 4 of the final 2023 and 2024 harvest specifications for groundfish in the GOA (88 FR 13238, March 2, 2023) is revised for the 2024 TACs of pollock in the Central and Western Regulatory Area of the GOA.

Table 4—Final 2024 Distribution of Pollock in the Western and Central Regulatory Areas of the Gulf of Alaska; Area Apportionments; ¹ and Seasonal Allowances of Annual TAC
[Values are rounded to the nearest metric ton]
Season ² | Shumigan (Area 610) | Chirikof (Area 620) | Kodiak (Area 630) | Total ³
A (January 20-May 31) | 5,422 | 70,918 | 13,862 | 90,202
B (September 1-November 1) | 33,460 | 20,019 | 36,725 | 90,204
Annual Total | 38,882 | 90,937 | 50,587 | 180,406
¹ Area apportionments and seasonal allowances may not total precisely due to rounding.
² As established by § 679.23(d)(2)(i) through (ii), the A and B season allowances are available from January 20 through May 31 and September 1 through November 1, respectively. The amounts of pollock for processing by the inshore and offshore components are not shown in this table.
³ The West Yakutat and Southeast Outside District pollock TACs are not allocated by season and are not included in the total pollock TACs shown in this table.

Pursuant to § 679.20(a)(6)(ii) and (a)(12)(i), table 6 of the final 2022 and 2023 harvest specifications for groundfish in the GOA (88 FR 13238, March 2, 2023) is revised for the 2024 TACs of Pacific cod in the GOA.

Table 6—Final 2024 Seasonal Apportionments and Allocation of Pacific Cod Total Allowable Catch Amounts in the GOA; Allocations in the Western GOA and Central GOA Sectors, and the Eastern GOA Inshore and Offshore Processing Components
[Values are rounded to the nearest metric ton]
Regulatory area and sector | Annual allocation (mt) | A Season: Sector percentage of annual non-jig TAC | A Season: Seasonal allowances (mt) | B Season: Sector percentage of annual non-jig TAC | B Season: Seasonal allowances (mt)
Western GOA:
Jig (2.5% of TAC) | 153 | N/A | 92 | N/A | 61
Hook-and-line CV | 84 | 0.7% | 42 | 0.70% | 42
Hook-and-line CP | 1,182 | 10.9% | 651 | 8.90% | 531
Trawl CV | 2,292 | 31.54% | 1,882 | 6.86% | 409
Trawl CP | 143 | 0.9% | 54 | 1.50% | 90
All Pot CV and Pot CP | 2,268 | 19.80% | 1,182 | 18.20% | 1,086
Total | 6,121 | 63.84% | 3,902 | 36.16% | 2,219
Central GOA:
Jig (1.0% of TAC) | 154 | N/A | 93 | N/A | 62
Hook-and-line <50 CV | 2,232 | 9.32% | 1,424 | 5.29% | 808
Hook-and-line ≥50 CV | 1,025 | 5.61% | 858 | 1.10% | 168
Hook-and-line CP | 780 | 4.11% | 628 | 1.00% | 152
Trawl CV ¹ | 6,357 | 25.29% | 3,867 | 16.29% | 2,490
Trawl CP | 642 | 2.00% | 306 | 2.19% | 335
All Pot CV and Pot CP | 4,251 | 17.83% | 2,726 | 9.98% | 1,525
Total | 15,442 | 64.16% | 9,901 | 35.84% | 5,541
Eastern GOA |  | Inshore (90% of Annual TAC) |  | Offshore (10% of Annual TAC)
| 2,203 | 1,983 |  | 220
¹ Trawl catcher vessels participating in Rockfish Program cooperatives receive 3.81 percent, or 588 mt, of the annual Central GOA TAC (see table 28c to 50 CFR part 679), which is deducted from the Trawl CV B season allowance (see table 13. Final 2024 Apportionments of Rockfish Secondary Species in the Central GOA and table 28c to 50 CFR part 679).

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion, and would allow for harvests that exceed the appropriate allocation for pollock and Pacific cod based on the best scientific information available. NMFS was unable to publish a notice providing time for public comment because the most recent, relevant data only became available as of December 14, 2023.

Without this inseason adjustment, NMFS could not allow the fishery for pollock and Pacific cod in the GOA to be harvested in an expedient manner and in accordance with the regulatory schedule. Under § 679.25(c)(2), interested persons are invited to submit written comments on this action to the above address until January 10, 2024.

Authority: 16 U.S.C. 1801 et seq.

Dated: December 19, 2023.
Everett Wayne Baxter,
Acting Director, Office of Sustainable Fisheries, National Marine Fisheries Service.

[FR Doc. 2023-28324 Filed 12-22-23; 8:45 am]

BILLING CODE 3510-22-P